DEPARTMENT OF COMMERCE

International Trade Administration

[A-201-844]

Steel Concrete Reinforcing Bar From Mexico: Amended Final Results of Antidumping Duty Administrative Review; 2020-2021

AGENCY: Enforcement and Compliance, International Trade Administration, Department of Commerce.

SUMMARY: The U.S. Department of Commerce (Commerce) is amending the final results of the administrative review of the antidumping duty order on steel concrete reinforcing bar (rebar) from Mexico to correct a ministerial error. The period of review is November 1, 2020, through October 31, 2021.

DATES: Applicable July 28, 2023.

FOR FURTHER INFORMATION CONTACT: Kyle Clahane, AD/CVD Operations, Office III, Enforcement and Compliance, International Trade Administration, U.S. Department of Commerce, 1401 Constitution Avenue NW, Washington, DC 20230; telephone: (202) 482-5449.

SUPPLEMENTARY INFORMATION:

Background

On June 9, 2023, Commerce published the final results of the 2020-2021 administrative review of rebar from Mexico.¹ Additionally, on June 9, 2023, Commerce informed interested parties that it had disclosed all calculations for the Final Results and provided them with the opportunity to submit ministerial error comments.² Subsequently, on June 14, 2023, Commerce received a timely-filed allegation from the Rebar Trade Action Coalition and its individual members (collectively, the petitioner), regarding the calculation of the final weighted-average dumping margin for Deacero S.A.P.I. de C.V. (Deacero)/Ingeteknos Estructurales, S.A. de C.V. (Ingetek) (collectively, Deacero Group).³ No other interested party submitted comments.

¹ See Steel Concrete Reinforcing Bar from Mexico: Final Results of Antidumping Duty Administrative Review; 2020-2021, 88 FR 37849 (June 9, 2023) (Final Results), and accompanying Issues and Decision Memorandum.

² See Memorandum, “Deadline for Ministerial Error Comments,” dated June 9, 2023.

³ See Petitioner's Letter, “Ministerial Error Comments on Deacero's Final Margin Calculations,” dated June 14, 2023.

Legal Framework

Section 751(h) of the Tariff Act of 1930, as amended (the Act), and 19 CFR 351.224(f) define a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . .”.

Ministerial Error

The petitioner alleges that, in the final results of the review, Commerce made inadvertent errors with respect to the treatment of Ingetek's home market sales databases, and with respect to the treatment of missing payment dates that were factored into the calculation of U.S. credit expenses, which it claims resulted in an incorrect weighted-average dumping margin calculated for Deacero Group.

We have analyzed the allegations and find that the petitioner made a timely allegation concerning a ministerial error within the meaning of section 751(h) of the Act and 19 CFR 351.224(f) pertaining to use of Ingetek's home market sales dabases, but that the petitioner's allegation alleging a ministerial error in calculating U.S. credit expenses is untimely.

Accordingly, we have revised the margin calculations such that normal value is based on the intended treatment of Deacero Group's home market sales, but have made no modification to our calculation of U.S. credit expenses.

Details of Commerce's analysis of the petitioner's ministerial error allegations are included in the Ministerial Error Allegation Memorandum.⁴ The Ministerial Error Allegation Memorandum is a public document and is available via Enforcement and Compliance's Antidumping and Countervailing Duty Centralized Electronic Service System (ACCESS). ACCESS is available to registered users at https://access.trade.gov.

⁴ See Memorandum, “Ministerial Error Allegation,” dated concurrently with this notice (Ministerial Error Allegation Memorandum).

Accordingly, pursuant to 19 CFR 351.224(e), Commerce is amending the Final Results to reflect the correction of this ministerial error in the calculation of the weighted-average dumping margin for Deacero Group, which changes from 2.30 percent to 2.49 percent.⁵ Furthermore, we are amending the weighted-average dumping margin for the companies not selected for individual examination in this review. The weighted-average dumping margin for the non-examined companies is based on the weighted-average dumping margins calculated for the mandatory respondents, Deacero Group and Grupo Acerero S.A. de C.V. (Acerero), which changes from 5.78 percent to 5.93 percent.⁶

⁵ Id.

⁶ See Memorandum, “Amended Non-Examined Company Rate Calculation,” dated concurrently with this notice.

Amended Final Results of Review

As a result of correcting the ministerial error, Commerce determines that the following weighted-average dumping margins exist for the period November 1, 2020, through October 31, 2021:

Producer or exporter | Weighted-average dumping margin (percent)
Deacero S.A.P.I. de C.V./Ingeteknos Estructurales, S.A. de C.V | 2.49
Grupo Acerero S.A. de C.V.⁷ | 16.28
ArcelorMittal Mexico SA de CV | 5.93
Grupo Simec/Aceros Especiales Simec Tlaxcala, S.A. de C.V./Compania Siderurgica del Pacifico S.A. de C.V./Fundiciones de Acero Estructurales, S.A. de C.V./Grupo Chant S.A.P.I. de C.V./Operadora de Perfiles Sigosa, S.A. de C.V./Orge S.A. de C.V./Perfiles Comerciales Sigosa, S.A. de C.V./RRLC S.A.P.I. de C.V./Siderúrgicos Noroeste, S.A. de C.V./Siderurgica del Occidente y Pacifico S.A. de C.V./Simec International, S.A. de C.V./Simec International 6 S.A. de C.V./Simec International 7 S.A. de C.V./Simec International 9 S.A. de C.V | 5.93

Disclosure

We will disclose the calculations performed for these amended final results to parties to this segment of the proceeding within five days of the date of the publication of these amended final results, pursuant to 19 CFR 351.224(b).

⁷ The weighted-average dumping margin for Acerero remains unchanged from the Final Results. See Final Results, 88 FR at 37850.

Assessment Rate

Pursuant to section 751(a)(2)(C) of the Act and 19 CFR 351.212(b)(1), Commerce has determined, and U.S. Customs and Border Protection (CBP) shall assess, antidumping duties on all appropriate entries of subject merchandise in accordance with these amended final results of the administrative review.

In accordance with 19 CFR 351.212(b)(1), for Deacero Group and Acerero, we calculated importer-specific ad valorem antidumping duty assessment rates based on the ratio of the total amount of dumping calculated for the examined sales for each importer to the total entered value of the sales for each importer. Where an importer-specific antidumping duty assessment rate is zero or de minimis, within the meaning of 19 CFR 351.106(c)(1), Commerce will instruct CBP to liquidate the appropriate entries without regard to antidumping duties.

Commerce's “automatic assessment” will apply to entries of subject merchandise made during the period of review produced by either Deacero Group or Acerero for which the examined company did not know that the merchandise that it sold to the intermediary company (e.g., a reseller, trading company, or exporter) was destined for the United States. In such instances, we will instruct CBP to liquidate such entries at the all-others rate if there is no rate for the intermediate company(ies) involved in the transaction.

For the companies which were not selected for individual examination, we will instruct CBP to assess antidumping duties at an ad valorem assessment rate equal to the company-specific weighted-average dumping margin determined in these amended final results.

The amended final results of this review shall be the basis for the assessment of antidumping duties on entries of merchandise covered by the amended final results of this review and for future deposits of estimated duties, where applicable.⁸

⁸ See section 751(a)(2)(C) of the Act.

Commerce intends to issue assessment instructions to CBP no earlier than 41 days after the date of publication of the amended final results of this review in the Federal Register, in accordance with 19 CFR 356.8(a).

Cash Deposit Requirements

The following cash deposit requirements will be effective retroactively for all shipments of subject merchandise that entered, or were withdrawn from warehouse, for consumption on or after June 9, 2023, the date of publication of the Final Results of this administrative review. As provided for by section 751(a)(2)(C) of the Act: (1) the cash deposit rate for the companies listed above will be equal to the weighted-average dumping margin established in these amended final results of review; (2) for exporters not covered in this review but covered in a prior segment of the proceeding, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 20.58 percent established in the less-than-fair-value investigation.⁹

⁹ See Steel Concrete Reinforcing Bar from Mexico: Antidumping Duty Order, 79 FR 65925 (November 6, 2014).

These cash deposit requirements, when imposed, shall remain in effect until further notice.

Notification to Importers

This notice also serves as a final reminder to importers of their responsibility under 19 CFR 351.402(f) to file a certificate regarding the reimbursement of antidumping duties prior to liquidation of the relevant entries during the period of review. Failure to comply with this requirement could result in Commerce's presumption that reimbursement of antidumping duties occurred and the subsequent assessment of doubled antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(h) and 777(i)(1) of the Act, and 19 CFR 351.224(e).

Dated: July 21, 2023.
Lisa W. Wang,
Assistant Secretary for Enforcement and Compliance.

[FR Doc. 2023-16033 Filed 7-27-23; 8:45 am]

BILLING CODE 3510-DS-P